DEPARTMENT OF HEALTH AND HUMAN SERVICES

Office of the Secretary

[CFDA-93.788]

Delegation of Authority to the Assistant Secretary for Mental Health and Substance Use

Notice is hereby given that I have delegated to the Assistant Secretary for Mental Health and Substance Use, or his or her successor, the authorities vested in the Secretary of the Department of Health and Human Services, under Sec. 1003(a), (c), and (d) of the 21st Century Cures Act to support the Opioid Grant Program. This authority excludes the authority to promulgate regulations and to submit reports to Congress.

These authorities may be re-delegated.

I have ratified and affirmed any actions taken by the Acting Deputy Assistant Secretary for Mental Health and Substance Use or by any subordinates, which, in effect involved the exercise of these authorities delegated herein prior to the effective date of this delegation. This delegation was effective upon date of signature.

Dated: April 13, 2017.
Thomas E. Price,
Secretary.

[FR Doc. 2017-08050 Filed 4-20-17; 8:45 am]

BILLING CODE 4162-20-P